DEPARTMENT OF COMMERCE

National Institute of Standards and Technology

National Fire Codes: Request for Public Input for Revision of Codes and Standards

AGENCY: National Institute of Standards and Technology, Commerce.

ACTION: Notice.

SUMMARY: This notice contains the list of National Fire Protection Association (NFPA) documents opening for Public Input, and it also contains information on the NFPA Revision Process. The National Institute of Standards and Technology (NIST) is publishing this notice on behalf of the National Fire Protection Association (NFPA) to announce the NFPA's proposal to revise some of its fire safety codes and standards and requests Public Input to amend existing or begin the process of developing new NFPA fire safety codes and standards. The purpose of this request is to increase public participation in the system used by NFPA to develop its codes and standards.

DATES: Interested persons may submit Public Input by 5:00 p.m. EST/EDST on or before the date listed with the code or standard.

ADDRESSES: Amy Beasley Cronin, Secretary, Standards Council, NFPA, 1 Batterymarch Park, Quincy, Massachusetts 02169-7471.

FOR FURTHER INFORMATION CONTACT: Amy Beasley Cronin, NFPA, Secretary, Standards Council, at above address, (617) 770-3000. David F. Alderman, NIST, 100 Bureau Drive, MS 2100, Gaithersburg, MD 20899, email: david.alderman@nist.gov or by phone at 301-975-4019.

SUPPLEMENTARY INFORMATION:

The National Fire Protection Association (NFPA) proposes to revise some of its fire safety codes and standards and requests Public Input to amend existing or begin the process of developing new NFPA fire safety codes and standards. The purpose of this request is to increase public participation in the system used by NFPA to develop its codes and standards. The publication of this notice of request for Public Input by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and take approximately two years to complete. Each Revision Cycle proceeds according to a published schedule that includes final dates for all major events in the process. The Revision Process contains four basic steps that are followed for developing new documents as well as revising existing documents. Step 1: Public Input Stage, which results in the First Draft Report (formerly ROP); Step 2: Comment Stage, which results in the Second Draft Report (formerly ROC); Step 3: the Association Technical Meeting at the NFPA Conference & Expo; and Step 4: Standards Council consideration and issuance of documents.

Note: NFPA rules state that, anyone wishing to make Amending Motions on the Public Comments, Second Revisions, or Committee Comments must signal his or her intention by submitting a Notice of Intent to Make a Motion by 5:00 p.m. EST/EDST of the Deadline stated in the Second Draft Report. Certified motions will then be posted on the NFPA Web site. Documents that receive notice of proper Amending Motions (Certified Amending Motions) will be presented for action at the Association Technical Meeting at the NFPA Conference & Expo. Documents that receive no motions will be forwarded directly to the Standards Council for action on issuance.

For more information on these rules and for up-to-date information on schedules and deadlines for processing NFPA Codes and Standards, check the NFPA Web site at www.nfpa.org, or contact NFPA Codes and Standards Administration.

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

When a Technical Committee begins the development of a new or revised NFPA code or standard, it enters one of two Revision Cycles available each year. The Revision Cycle begins with the Call for Public Input, that is, a public notice asking for any interested persons to submit specific input for developing or revising a code or standard. The Call for Public Input is published in a variety of publications.

Following the Call for Public Input period, the Technical Committee holds a meeting to consider all the submitted Public Input and make Revisions accordingly. A document known as the First Draft Report (formerly ROP), is prepared containing all the Public Input, the Technical Committee's response to each Input, as well as all Committee-generated First Revisions. The First Draft is then submitted for the approval of the Technical Committee by a formal written ballot. Any Revisions that do not receive approval by a two-thirds vote calculated in accordance with NFPA rules will not appear in the First Draft. If the necessary approval is received, the Revisions are published in the First Draft Report that is posted on the NFPA Web site at www.nfpa.org for public review and comment, and the process continues to the next step.

Once the First Draft Report becomes available, there is a 10 week comment period during which anyone may submit a Comment on the proposed changes in the First Draft Report. The Committee then reconvenes at the end of the Comment period and acts on all Comments.

As before, a two-thirds approval vote by written ballot of the eligible members of the Committee is required for approval of the Second Revisions. All of this information is compiled into a second report, called the Second Draft Report (formerly ROC), which, like the First Draft Report, is published, and is made available for public review for a five-week period.

The process of public input and review does not end with the publication of the First Draft Report and Second Draft Report. Following the completion of the Public Input and Comment periods, there is further opportunity for debate and discussion through the Association Technical Meeting that takes place at the NFPA Conference & Expo.

The Association Technical Meeting provides an opportunity for the Technical Committee Report (i.e., the First Draft Report and Second Draft Report) on each proposed new or revised code or standard to be presented to the NFPA membership for the debate and consideration of motions to amend the Report. Before making an allowable motion at an Association Technical Meeting, the intended maker of the motion must file, in advance of the session, and within the published deadline, a Notice of Intent to Make a Motion (NITMAM). A Motions Committee appointed by the Standards Council then reviews all notices and certifies all amending motions that are proper. Only these Certified Amending Motions, together with certain allowable Follow-Up Motions (that is, motions that have become necessary as a result of previous successful amending motions) will be allowed at the Association Technical Meeting.

For more information on dates/locations of NFPA Technical Committee meetings go to the NFPA Web site at www.nfpa.org/tcmeetings; and for NFPA Conference & Expo, go to the NFPA Web site at www.nfpa.org/conference.

The specific rules for the types of motions that can be made and who can make them are set forth in NFPA's Regulations Governing the Development of NFPA Standards which should always be consulted by those wishing to bring an issue before the membership at an Association Technical Meeting.

Request for Public Input

Interested persons may submit Public Input supported by data, views, and substantiation. Public Input should be submitted online for each specific document (i.e., www.nfpa.org/publicinput). Public Input received by 5:00 p.m. EST/EDST on or before the closing date indicated with each code or standard would be acted on by the Committee, and then considered by the NFPA Membership at the Association Technical Meeting.

Document—Edition | Document title | Public input closing date
NFPA 10—2013 | Standard for Portable Fire Extinguishers | 1/3/2014
NFPA 13—2013 | Standard for the Installation of Sprinkler Systems | 5/31/2013
NFPA 13D—2013 | Standard for the Installation of Sprinkler Systems in One- and Two-Family Dwellings and Manufactured Homes | 5/31/2013
NFPA 13R—2013 | Standard for the Installation of Sprinkler Systems in Low-Rise Residential Occupancies | 5/31/2013
NFPA 14—2013 | Standard for the Installation of Standpipe and Hose Systems | 1/3/2014
NFPA 15—2012 | Standard for Water Spray Fixed Systems for Fire Protection | 7/7/2014
NFPA 18—2011 | Standard on Wetting Agents | 1/3/2014
NFPA 18A—2011 | Standard on Water Additives for Fire Control and Vapor Mitigation | 1/3/2014
NFPA 20—2013 | Standard for the Installation of Stationary Pumps for Fire Protection | 7/8/2013
NFPA 24—2013 | Standard for the Installation of Private Fire Service Mains and Their Appurtenances | 5/31/2013
NFPA 32—2011 | Standard for Drycleaning Plants | 1/3/2014
NFPA 35—2011 | Standard for the Manufacture of Organic Coatings | 1/3/2014
NFPA 36—2013 | Standard for Solvent Extraction Plants | 1/5/2015
NFPA 40—2011 | Standard for the Storage and Handling of Cellulose Nitrate Film | 7/8/2013
NFPA 51—2013 | Standard for the Design and Installation of Oxygen-Fuel Gas Systems for Welding, Cutting, and Allied Processes | 7/6/2015
NFPA 51A—2012 | Standard for Acetylene Cylinder Charging Plants | 7/7/2014
NFPA 52—2013 | Vehicular Gaseous Fuel Systems Code | 1/3/2014
NFPA 53—2011 | Recommended Practice on Materials, Equipment, and Systems Used in Oxygen-Enriched Atmospheres | 1/3/2014
NFPA 55—2013 | Compressed Gases and Cryogenic Fluids Code | 7/8/2013
NFPA 59A—2013 | Standard for the Production, Storage, and Handling of Liquefied Natural Gas (LNG) | 7/8/2013
NFPA 61—2013 | Standard for the Prevention of Fires and Dust Explosions in Agricultural and Food Processing Facilities | 7/6/2015
NFPA 67—2013 | Guideline on Explosion Protection for Gaseous Mixtures in Pipe Systems | 1/3/2014
NFPA 72—2013 | National Fire Alarm and Signaling Code | 5/20/2013
NFPA 73—2011 | Standard for Electrical Inspections for Existing Dwellings | 7/8/2013
NFPA 75—2013 | Standard for the Fire Protection of Information Technology Equipment | 1/3/2014
NFPA 76—2012 | Standard for the Fire Protection of Telecommunications Facilities | 1/3/2014
NFPA 80—2013 | Standard for Fire Doors and Other Opening Protectives | 7/8/2013
NFPA 80A—2012 | Recommended Practice for Protection of Buildings from Exterior Fire Exposures | 7/7/2014
NFPA 101A—2013 | Guide on Alternative Approaches to Life Safety | 7/8/2013
NFPA 102—2011 | Standard for Grandstands, Folding and Telescopic Seating, Tents, and Membrane Structures | 1/3/2014
NFPA 105—2013 | Standard for the Installation of Smoke Door Assemblies and Other Opening Protectives | 7/8/2013
NFPA 110—2013 | Standard for Emergency and Standby Power Systems | 7/8/2013
NFPA 111—2013 | Standard on Stored Electrical Energy Emergency and Standby Power Systems | 7/8/2013
NFPA 115—2012 | Standard for Laser Fire Protection | 1/3/2014
NFPA 150—2013 | Standard on Fire and Life Safety in Animal Housing Facilities | 7/8/2013
NFPA 160—2011 | Standard for the Use of Flame Effects Before an Audience | 7/8/2013
NFPA 211—2013 | Standard for Chimneys, Fireplaces, Vents, and Solid Fuel-Burning Appliances | 1/3/2014
NFPA 214—2011 | Standard on Water-Cooling Towers | 1/3/2014
NFPA 225—2013 | Model Manufactured Home Installation Standard | 1/5/2015
NFPA 232—2012 | Standard for the Protection of Records | 7/7/2014
NFPA 241—2013 | Standard for Safeguarding Construction, Alteration, and Demolition Operations | 1/5/2015
NFPA 252—2012 | Standard Methods of Fire Tests of Door Assemblies | 1/5/2015
NFPA 257—2012 | Standard on Fire Test for Window and Glass Block Assemblies | 1/5/2015
NFPA 268—2012 | Standard Test Method for Determining Ignitibility of Exterior Wall Assemblies Using a Radiant Heat Energy Source | 1/5/2015
NFPA 269—2012 | Standard Test Method for Developing Toxic Potency Data for Use in Fire Hazard Modeling | 1/5/2015
NFPA 275—2013 | Standard Method of Fire Tests for the Evaluation of Thermal Barriers | 1/5/2015
NFPA 285—2012 | Standard Fire Test Method for Evaluation of Fire Propagation Characteristics of Exterior Non-Load-Bearing Wall Assemblies Containing Combustible Components | 1/5/2015
NFPA 287—2012 | Standard Test Methods for Measurement of Flammability of Materials in Cleanrooms Using a Fire Propagation Apparatus (FPA) | 1/5/2015
NFPA 288—2012 | Standard Methods of Fire Tests of Horizontal Fire Door Assemblies Installed in Horizontal Fire Resistance-Rated Assemblies | 1/5/2015
NFPA 291—2013 | Recommended Practice for Fire Flow Testing and Marking of Hydrants | 5/31/2013
NFPA 301—2013 | Code for Safety to Life from Fire on Merchant Vessels | 7/6/2015
NFPA 303—2011 | Fire Protection Standard for Marinas and Boatyards | 7/8/2013
NFPA 307—2011 | Standard for the Construction and Fire Protection of Marine Terminals, Piers, and Wharves | 7/8/2013
NFPA 312—2011 | Standard for Fire Protection of Vessels During Construction, Conversion, Repair, and Lay-Up | 7/8/2013
NFPA 385—2012 | Standard for Tank Vehicles for Flammable and Combustible Liquids | 1/5/2015
NFPA 400—2013 | Hazardous Materials Code | 7/8/2013
NFPA 402—2013 | Guide for Aircraft Rescue and Fire-Fighting Operations | 7/6/2015
NFPA 407—2012 | Standard for Aircraft Fuel Servicing | 7/7/2014
NFPA 409—2011 | Standard on Aircraft Hangars | 7/8/2013
NFPA 414—2012 | Standard for Aircraft Rescue and Fire-Fighting Vehicles | 7/7/2014
NFPA 415—2013 | Standard on Airport Terminal Buildings, Fueling Ramp Drainage, and Loading Walkways | 7/8/2013
NFPA 418—2011 | Standard for Heliports | 1/3/2014
NFPA 423—2010 | Standard for Construction and Protection of Aircraft Engine Test Facilities | 7/8/2013
NFPA 424—2013 | Guide for Airport/Community Emergency Planning | 7/6/2015
NFPA 450—2013 | Guide for Emergency Medical Services and Systems | 7/7/2014
NFPA 472—2013 | Standard for Competence of Responders to Hazardous Materials/Weapons of Mass Destruction Incidents | 7/6/2015
NFPA 473—2013 | Standard for Competencies for EMS Personnel Responding to Hazardous Materials/Weapons of Mass Destruction Incidents | 7/6/2015
NFPA 475 P * | Recommended Practice for Responding to Hazardous Materials Incidents/Weapons of Mass Destruction | 1/5/2015
NFPA 497—2012 | Recommended Practice for the Classification of Flammable Liquids, Gases, or Vapors and of Hazardous (Classified) Locations for Electrical Installations in Chemical Process Areas | 1/3/2014
NFPA 499—2013 | Recommended Practice for the Classification of Combustible Dusts and of Hazardous (Classified) Locations for Electrical Installations in Chemical Process Areas | 7/7/2014
NFPA 501—2013 | Standard on Manufactured Housing | 1/5/2015
NFPA 501A—2013 | Standard for Fire Safety Criteria for Manufactured Home Installations, Sites, and Communities | 1/5/2015
NFPA 550—2012 | Guide to the Fire Safety Concepts Tree | 1/5/2015
NFPA 551—2013 | Guide for the Evaluation of Fire Risk Assessments | 1/3/2014
NFPA 555—2013 | Guide on Methods for Evaluating Potential for Room Flashover | 7/7/2014
NFPA 556—2011 | Guide on Methods for Evaluating Fire Hazard to Occupants of Passenger Road Vehicles | 7/8/2013
NFPA 654—2013 | Standard for the Prevention of Fire and Dust Explosions from the Manufacturing, Processing, and Handling of Combustible Particulate Solids | 7/6/2015
NFPA 655—2012 | Standard for Prevention of Sulfur Fires and Explosions | 1/5/2015
NFPA 664—2012 | Standard for the Prevention of Fires and Explosions in Wood Processing and Woodworking Facilities | 7/7/2014
NFPA 704—2012 | Standard System for the Identification of the Hazards of Materials for Emergency Response | 7/7/2014
NFPA 820—2012 | Standard for Fire Protection in Wastewater Treatment and Collection Facilities | 7/8/2013
NFPA 900—2013 | Building Energy Code | 1/3/2014
NFPA 901—2011 | Standard Classifications for Incident Reporting and Fire Protection Data | 1/3/2014
NFPA 909—2013 | Code for the Protection of Cultural Resource Properties—Museums, Libraries, and Places of Worship | 1/5/2015
NFPA 951 P * | Guide to Building and Utilizing Data Information | 1/3/2014
NFPA 1000—2011 | Standard for Fire Service Professional Qualifications Accreditation and Certification Systems | 1/5/2015
NFPA 1037—2012 | Standard for Professional Qualifications for Fire Marshal | 1/5/2015
NFPA 1051—2012 | Standard for Wildland Fire Fighter Professional Qualifications | 1/5/2015
NFPA 1071—2011 | Standard for Emergency Vehicle Technician Professional Qualifications | 7/8/2013
NFPA 1072 P * | Standard for Hazardous Materials/Weapons of Mass Destruction Emergency Response Personnel Professional Qualifications | 1/5/2015
NFPA 1122—2013 | Code for Model Rocketry | 7/6/2015
NFPA 1124—2013 | Code for the Manufacture, Transportation, Storage, and Retail Sales of Fireworks and Pyrotechnic Articles | 7/7/2014
NFPA 1125—2012 | Code for the Manufacture of Model Rocket and High Power Rocket Motors | 7/7/2014
NFPA 1126—2011 | Standard for the Use of Pyrotechnics Before a Proximate Audience | 7/8/2013
NFPA 1127—2013 | Code for High Power Rocketry | 7/6/2015
NFPA 1128PYR—2013 | Standard Method of Fire Test for Flame Breaks | 7/7/2014
NFPA 1129PYR—2013 | Standard Method of Fire Test for Covered Fuse on Consumer Fireworks | 7/7/2014
NFPA 1141—2012 | Standard for Fire Protection Infrastructure for Land Development in Wildland, Rural, and Suburban Areas | 7/7/2014
NFPA 1142—2012 | Standard on Water Supplies for Suburban and Rural Fire Fighting | 7/7/2014
NFPA 1144—2013 | Standard for Reducing Structure Ignition Hazards from Wildland Fire | 7/6/2015
NFPA 1145—2011 | Guide for the Use of Class A Foams in Manual Structural Fire Fighting | 7/8/2013
NFPA 1221—2013 | Standard for the Installation, Maintenance, and Use of Emergency Services Communications Systems | 7/8/2013
NFPA 1401—2012 | Recommended Practice for Fire Service Training Reports and Records | 1/5/2015
NFPA 1402—2012 | Guide to Building Fire Service Training Centers | 1/5/2015
NFPA 1403—2012 | Standard on Live Fire Training Evolutions | 1/5/2015
NFPA 1405—2011 | Guide for Land-Based Fire Departments that Respond to Marine Vessel Fires | 1/3/2014
NFPA 1500—2013 | Standard on Fire Department Occupational Safety and Health Program | 7/6/2015
* Proposed NEW drafts are available from NFPA's Web site— www.nfpa.org or may be obtained from NFPA's Codes and Standards Administration, 1 Batterymarch Park, Quincy, Massachusetts 02169-7471.

Dated: April 22, 2013.
Willie E. May,
Associate Director for Laboratory Programs.

[FR Doc. 2013-09938 Filed 4-25-13; 8:45 am]

BILLING CODE 3510-13-P